GENERAL SERVICES ADMINISTRATION

[Notice-FMR-2012-G-03; Docket No. 2012-0004, Sequence 3]

Improving Mail Management Policies, Procedures, and Activities

AGENCY: Office of Governmentwide Policy, General Services Administration (GSA).

ACTION: Notice of FMR Bulletin G-03.

SUMMARY: The General Services Administration (GSA) has issued Federal Management Regulation (FMR) Bulletin G-03 which provides guidance to Executive Branch agencies for improving mail management policies, procedures, and activities. FMR Bulletin G-03 and all other FMR Bulletins may be found at http://www.gsa.gov/portal/content/102955#MailManagement.

DATES: Effective Date: This notice is effective May 29, 2012.

Applicability Date: This notice applies to Mail Management Policy performed on or after May 2, 2012.

FOR FURTHER INFORMATION CONTACT: Mr. Derrick Miliner, Office of Governmentwide Policy (MAF), Office of Asset and Transportation Management, General Services Administration at (202) 273-3564 or via email at derrick.miliner@gsa.gov. Please cite FMR Bulletin G-03.

SUPPLEMENTARY INFORMATION: In an effort to cut waste, increase sustainable practices, remain in compliance with Executive Orders and the Federal Management Regulation, Federal agencies, internal policies should address the four requirements described in this bulletin. These include: (1) Consolidation of mail including presorting; (2) reductions of hard copy agency-to-agency mailings; (3) sustainable mail practices; and (4) secure mail for teleworkers.

Dated: May 16, 2012.
Carolyn Austin Diggs,
Assistant Deputy Associate Administrator, Office of Asset and Transportation Management, Office of Governmentwide Policy.

[FR Doc. 2012-12985 Filed 5-25-12; 8:45 am]

BILLING CODE 6860-14-P